DEPARTMENT OF TRANSPORTATION

Federal Aviation Administration

14 CFR Part 71

[Docket No. FAA-2025-0372; Airspace Docket No. 24-AAL-126]

RIN 2120-AA66

Amendment of Colored Federal Airway Green 8, Jet Route J-115, United States Area Navigation (RNAV) Route T-227 and Establishment of RNAV Route Q-188 in Alaska; Correction

AGENCY: Federal Aviation Administration (FAA), DOT.

ACTION: Final rule; correction.

SUMMARY: This action corrects a final rule published by the FAA in the Federal Register on November 18, 2025, amending Colored Federal Airway Green 8 (G-8), Jet Route J-115, and United States Area Navigation (RNAV) Route T-227; and establishing RNAV Route Q-188 in Alaska due to the pending decommissioning of the Shemya, AK, Nondirectional Radio Beacon (NDB). Specifically, this action administratively corrects errors within the description of G-8 and J-115 in the final rule as published on November 18, 2025.

DATES: The effective date of the final rule published in the Federal Register on November 18, 2025, remains 0901 UTC, January 22, 2026. The Director of the Federal Register approves this incorporation by reference action under 1 CFR part 51, subject to the annual revision of FAA Order 7400.11 and publication of conforming amendments.

ADDRESSES: FAA Order 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

History

The FAA published a final rule in the Federal Register (90 FR 51507; November 18, 2025) amending Colored Federal Airway G-8, Jet Route J-115, and RNAV Route T-227; and establishing RNAV Route Q-188. Subsequent to the publication of that final rule, the FAA discovered a final rule previously published in the Federal Register (90 FR 13060; March 20, 2025) amending J-115 in Alaska. The amendment revoked a segment of the airway between the Fairbanks, AK, Very High Frequency Omnidirectional Range/Tactical Air Navigation (VORTAC) and the Deadhorse, AK, VOR/Distance Measuring Equipment (DME). However, these changes were not reflected in the later-published final rule that is now being corrected. Specifically, in this now-corrected airspace action, the segment of J-115 between the Fairbanks, AK, VORTAC and the Deadhorse, AK, VOR/DME was included in the description despite having been previously revoked. This action corrects this error by removing the segment of J-115 between the Fairbanks, AK, VORTAC and the Deadhorse, AK, VOR/DME from the airspace description. No other portion of J-115 is affected by this rule.

Additionally, the FAA discovered a final rule previously published in the Federal Register (90 FR 20232; May 13, 2025) amending G-8 in Alaska. The amendment revoked a segment of the airway between the Elfee, AK, NDB and the Kachemak, AK, NDB. However, these changes were not reflected in the later-published final rule that is now being corrected. Specifically, in this now-corrected airspace action, the segment of G-8 between the Elfee, AK, NDB and the Kachemak, AK, NDB was included in the description despite having been previously revoked. This action corrects this error by removing the segment of G-8 between the Elfee, AK, NDB and the Kachemak, AK, NDB from the airspace description. No other portion of G-8 is affected by this rule.

Correction to the Final Rule

Accordingly, pursuant to the authority delegated to me, in Docket No. FAA-2025-0372 as published in the Federal Register on November 18, 2025 (90 FR 51507), FR Doc. 2025-20134, is corrected as follows:

1. On page 51508, in the third column, in the line directly below the bolded text “G-8 [Amended]”, delete the text “From Mount Moffet, AK, NDB, 20 AGL; Dutch Harbor, AK, NDB, 20 AGL; INT Dutch Harbor, AK, NDB 041° and Elfee, AK, NDB 253° bearings, 20 AGL; Elfee, AK, NDB, 20 AGL; Chinook, AK, NDB; INT Chinook, AK, NDB 054° and Kachemak, AK, NDB 269° bearings; to Kachemak, AK, NDB” and replace it with “From Mount Moffet, AK, NDB, 20 AGL; Dutch Harbor, AK, NDB, 20 AGL; INT Dutch Harbor, AK, NDB 041° and Elfee, AK, NDB 253° bearings, 20 AGL; Elfee, AK, NDB, 20 AGL.”.

2. On page 51508, in the third column, in the line directly below the bolded text “J-115 [Amended]”, delete the text “From Mount Moffett, AK, NDB; Dutch Harbor, AK, NDB; Cold Bay, AK; King Salmon, AK; INT King Salmon 053° and Kenai, AK, 239° radials; Kenai, AK; Anchorage, AK; Big Lake, AK; Fairbanks, AK; Chandalar, AK, NDB; to Deadhorse, AK” and replace it with “From Mount Moffett, AK, NDB; Dutch Harbor, AK, NDB; Cold Bay, AK; King Salmon, AK; INT King Salmon 053° and Kenai, AK, 239° radials; Kenai, AK; Anchorage, AK; Big Lake, AK; Fairbanks.”.

Issued in Washington, DC, on December 19, 2025.
Glenn L. Sigley,
Acting Manager, Rules and Regulations Group.

[FR Doc. 2025-23738 Filed 12-22-25; 8:45 am]

BILLING CODE 4910-13-P